DEPARTMENT OF JUSTICE

Immigration and Naturalization Service

8 CFR Parts 103, 214, 248 and 264

[INS No. 2059]

RIN 1115-AF29

Procedures for Processing Temporary Agricultural Worker (H-2A) Petitions by the Secretary of Labor

AGENCY: Immigration and Naturalization Service, Justice.

ACTION: Withdrawal of proposed rule.

SUMMARY: On July 13, 2000, the Immigration and Naturalization Service (Service) published a final rule in the Federal Register to delegate to the Department of Labor (DOL) the authority to adjudicate petitions for temporary agricultural workers (H-2A). On the same date, in conjunction with that action, the Service published a proposed rule in the Federal Register, at 65 FR 43535, providing additional instructions and information on how to petition for agricultural workers (H-2A) once the delegation of authority became effective.

In a separate final rule published elsewhere in this issue of the Federal Register, the Service is withdrawing that final rule delegating authority to DOL. Accordingly, for the same reasons, the Service is withdrawing this related proposed rule.

DATES: The proposed rule amending 8 CFR parts 103, 214, 248 and 264 published in the Federal Register at 65 FR 43535 is withdrawn as of October 1, 2002.

FOR FURTHER INFORMATION CONTACT: Mari F. Johnson, Adjudications Officer, Business and Trade Services Branch, Adjudications Division, Immigration and Naturalization Service, 425 I Street NW., Room 3214, Washington, DC 20536, telephone (202) 353-8177.

SUPPLEMENTARY INFORMATION:

Purpose of Delegating Adjudication of Certain H-2A Petitions to the DOL

In an attempt to streamline the processing of petitions filed for agricultural workers, the Service, in consultation with the DOL, decided to delegate its authority to adjudicate certain H-2A petitions to the DOL. It was estimated that the delegation of authority would shorten the processing time of H-2A petitions by as much as 10 days.

Regulations Delegating H-2A Authority to DOL and Extensions of the Effective Date

On July 13, 2000, the Service published a final rule in the Federal Register at 65 FR 43528-43534 delegating the authority to adjudicate certain H-2A petitions for the temporary employment of nonimmigrant aliens in agriculture in the United States to the DOL. The final rule, which amended 8 CFR parts 103 and 214, was to take effect on November 13, 2000. The Service subsequently published final rules to delay the effective date of this transfer of H-2A authority until October 1, 2002. 65 FR 67616 (Nov. 13, 2000); 66 FR 49514 (Sept. 28, 2001).

Proposed Regulations Regarding Procedures for Processing H-2A Petitions

On July 13, 2000, and concurrently with the H-2A final delegation of authority rule, the Service published a proposed rule for comment proposing among other things, that all petition requests, extensions of stay, and change of status petitions must be filed with DOL and that the current Service petition fee would be collected by DOL as part of the combined fee.

Concurrently with publication of Service's proposed rule the DOL published at 65 FR 43545 a companion notice of proposed rulemaking (NPRM) setting forth implementation measures necessary for the successful implementation of the delegation of authority to adjudicate petitions.

On August 17, 2000, at 65 FR 50166 the Service reopened and extended the comment period for the proposed rule. Also on August 17, 2000, at 65 FR 50170 the DOL reopened and extended the comment period on its NPRM. In order to obtain additional information from the public relating to the delegation such as the consolidation of forms and the appropriate fees as well as other issues.

Changes Contained in the Proposed Rule

The Service's proposed rule required that alien workers sign a petition request for change of status or extension of stay. The Service also proposed that all petition requests including extension of stay and change of status petitions be filed with the DOL. Finally, the rule proposed that the Service's petition filing fee will be collected by DOL.

Comments Received on the Proposed Rule

The Service received 20 comments on the proposed rule. The majority of the commenters expressed dissatisfaction with the Service's delegation of authority to DOL and requested that the Service grant additional time for comments from the public on the delegation. The commenters also expressed concern that it would be difficult for alien beneficiaries to sign the petition.

Events Necessitating the Withdrawal of the Proposed and Final Rule

For the reasons explained in the final rule, published elsewhere in this issue of the Federal Register, the Service has withdrawn the delegation of H-2A authority contained in the final rule published on July 13, 2000, at 65 FR 43528-45534. Because the delegation of authority will not take place, the Service is also withdrawing this proposed rule which was published in the Federal Register on July 13, 2000, at 65 FR 43535.

Regulatory Flexibility Act

The Commissioner of the Immigration and Naturalization Service, in accordance with the Regulatory Flexibility Act (5 U.S.C. 605(b)), has reviewed this regulation and, by approving it, certifies that this rule will not have a significant economic impact on a substantial number of small entities. This rule is administrative in nature and merely withdraws a proposed rule published in the Federal Register.

Unfunded Mandates Reform Act of 1995

This rule will not result in the expenditure by State, local and tribal governments, in the aggregate, or by the private sector, of $100 million or more in any one year, and it will not significantly or uniquely affect small governments. Therefore, no actions were deemed necessary under the provisions of the Unfunded Mandates Reform Act of 1995.

Small Business Regulatory Enforcement Fairness Act of 1996

This rule is not a major rule as defined by section 804 of the Small Business Regulatory Enforcement Fairness Act of 1996. This rule will not result in an annual effect on the economy of $100 million or more; a major increase in costs or prices; or significant adverse effects on competition, employment, investment, productivity, innovation, or on the ability of United States based companies to compete with foreign-based companies in domestic and export markets.

Executive Order 12866

This rule is considered by the Department of Justice, Immigration and Naturalization Service, to be a “significant regulatory action” under Executive Order 12866, section 3(f), Regulatory Planning and Review. Accordingly, this regulation has been submitted to the Office of Management and Budget for review.

Executive Order 13132

This rule will not have substantial direct effects on the States, on the relationship between the National Government and the States, or on the distribution of power and responsibilities among the various levels of government. Therefore, in accordance with section 6 of Executive Order 13132, it is determined that this rule does not have sufficient federalism implications to warrant the preparation of a federalism summary impact statement.

Executive Order 12988 Civil Justice Reform

This rule meets the applicable standards set forth in sections 3(a) and 3(b)(2) of Executive Order 12988.

Paperwork Reduction Act

Under the Paperwork Reduction Act of 1995, Public Law 104-13, all Departments are required to submit to the Office of Management and Budget (OMB), for review and approval, any reporting requirements inherent in a proposed rule. This rule does not impose any new reporting or recordkeeping requirements under the Paperwork Reduction Act.

Accordingly, the proposed rule amending 8 CFR parts 103, 214, 248 and 264 published in the Federal Register at 65 FR 43535 is withdrawn.

Dated: September 13, 2002.
James W. Ziglar,
Commissioner, Immigration and Naturalization Service.

[FR Doc. 02-24845 Filed 9-27-02; 1:00 pm]

BILLING CODE 4410-10-P